TENNESSEE VALLEY AUTHORITY

Spring Valley II Solar Project

AGENCY: Tennessee Valley Authority.

ACTION: Notice of intent.

SUMMARY: The Tennessee Valley Authority (TVA) intends to prepare an environmental impact statement (EIS) for the purchase of electricity generated by the proposed Spring Valley II Solar Project in Colbert County, Alabama. The EIS will assess the potential environmental effects of constructing, operating, and maintaining the proposed 178-megawatt (MW) alternating current (AC) solar facility that would occupy approximately 943 acres of the 1,629-acre project study area. Public comments are invited concerning the scope of the EIS, alternatives being considered, and environmental issues that should be addressed as a part of this EIS. TVA is also requesting data, information, and analysis relevant to the proposed action from the public; affected federal, state, tribal, and local governments, agencies, and offices; the scientific community; industry; or any other interested party.

DATES: The public scoping period begins with the publication of this Notice of Intent in the Federal Register. To ensure consideration, comments must be postmarked, emailed, or submitted online no later than October 19, 2023.

ADDRESSES: Written comments should be sent to J. Taylor Johnson, NEPA Compliance Specialist, Tennessee Valley Authority, 1101 Market Street, BR 2C-C, Chattanooga, Tennessee 37402. Comments may be submitted online at: https://www.tva.gov/nepa, or by email to nepa@tva.gov. Please note that TVA encourages comments be submitted electronically.

FOR FURTHER INFORMATION CONTACT: J. Taylor Johnson by email at jtcates@tva.gov, by phone at (423) 751-2732, or by mail at the address above.

SUPPLEMENTARY INFORMATION: This notice is provided in accordance with the Council on Environmental Quality's Regulations (40 CFR parts 1500 to 1508) and TVA's procedures for implementing the National Environmental Policy Act (NEPA) (18 CFR 1318). TVA is an agency and instrumentality of the United States, established by an act of Congress in 1933, to foster the social and economic welfare of the people of the Tennessee Valley region and to promote the proper use and conservation of the region's natural resources. One component of this mission is the generation, transmission, and sale of reliable and affordable electric energy.

Background

In June 2019, TVA completed the final 2019 Integrated Resource Plan (IRP) and associated EIS. The IRP is a comprehensive study of how TVA will meet the demand for electricity in its service territory over the next 20 years. The 2019 IRP recommends solar expansion and anticipates growth in all scenarios analyzed, with most scenarios anticipating 5,000-8,000 MW and one anticipating up to 14,000 MW by 2038. In 2022, customer demand for cleaner energy prompted TVA to release a Carbon-Free Request for Proposal (RFP) for renewable energy resources.

As a result of the RFP, TVA is considering entering into a Power Purchase Agreement (PPA) with Spring Valley Solar, LLC to purchase 178 MW AC of power generated by the proposed Spring Valley II Solar Project. The proposed solar facility would occupy approximately 943 acres of the 1,629-acre project study area, which is located entirely in Colbert County, Alabama. The land surplus is to accommodate relocating the arrays if any areas need to be avoided as a result of the environmental review. The project site is located south of the city limits of Tuscumbia, Alabama, near the City of Muscle Shoals and Florence, Alabama, along US Highway 43. The project site is a mixture of agricultural fields and forested areas. A map showing the project site is available at https://www.tva.gov/nepa.

Preliminary Proposed Action and Alternatives

In addition to a No Action Alternative, TVA will evaluate the action alternative of purchasing power from the proposed Spring Valley II Solar Project under the terms of a PPA. In evaluating alternatives, TVA considered other solar proposals, prior to selecting the Spring Valley II site for further evaluation. Part of the screening process included a review of transmission options, including key connection points to TVA's transmission system. The Spring Valley II site stood out as a viable option for connectivity. Environmental and cultural considerations are also included in TVA's screening. For the proposed site, the solar developer plans to consider the establishment of a footprint that could avoid impacts to cultural or biological resources. The EIS will also evaluate ways to mitigate impacts that cannot be avoided. The description and analysis of these alternatives in the EIS will inform decision makers, other agencies, and the public about the potential for environmental impacts associated with the proposed solar facility.

Project Purpose and Need

The Spring Valley II Solar Project that was submitted as a result of TVA's 2022 Carbon-Free RFP would help TVA meet immediate needs for additional renewable generating capacity in response to customer demands and fulfill the renewable energy goals established in the 2019 IRP. To meet these goals, public scoping is integral to the process for implementing NEPA and ensures that (1) issues are identified early and properly studied, (2) issues of little significance do not consume substantial time and effort, and (3) the analysis of identified issues is thorough and balanced.

Anticipated Environmental Impacts

This EIS will contain descriptions of the existing environmental and socioeconomic resources within the area that could be affected by the proposed solar facility, including the documented historical, cultural, and environmental resources. Evaluation of potential environmental impacts to these resources will include, but not be limited to, air quality and greenhouse gas emissions, surface water, groundwater, wetlands, floodplains, vegetation, wildlife, threatened and endangered species, land use, natural areas and parks and recreation, geology, soils, prime farmland, visual resources, noise, cultural resources, socioeconomics and environmental justice, solid and hazardous waste, public and occupational health and safety, utilities, and transportation.

Based on a preliminary evaluation of these resources, potential impacts to vegetation and wildlife due to the conversion of forest of various ages to early maintained grass-dominated fields may occur. Impacts to water resources would likely be minor with the use of best management practices and avoidance of siting project components in or near streams, wetlands, and riparian areas to the extent feasible. Land use would be impacted by the conversion of farmland to industrial use and the elimination of current farming operations, which would also result in visual impacts. A listed National Register of Historic Places property is located outside of the project footprint but in proximity and potential viewshed. Due to the location, there is a high probability of additional cultural resources to be present. Additional cultural resources surveys will be conducted to identify resources within the project area and viewshed and to assess effects.

Beneficial impacts are expected by facilitating the development of renewable energy and thereby increasing local job opportunities, as well as improving regional air quality and reducing carbon emissions. The EIS will analyze measures that would avoid, minimize, or mitigate identified environmental effects. The final range of issues to be addressed in the environmental review will be determined, in part, from scoping comments received.

Request for Identification of Potential Alternatives, Information, and Analyses Relevant to the Proposed Action

TVA requests assistance with identifying any new potential alternatives to the proposed action to be considered. TVA also requests assistance with identifying any known potential impacts of the proposed action that should be analyzed. Information interested parties possess which would assist in the analysis of resources is also appreciated. The preliminary identification of reasonable alternatives, information, and analyses relevant to the proposed action in this notice is not meant to be exhaustive or final.

Public Participation and Process

The public is invited to submit comments on the scope of this EIS no later than the date identified in the DATES section of this notice. Federal, state, and local agencies and Native American Tribes are also invited to provide comments. Information about this project is available on the TVA web page at https://www.tva.gov/nepa, including a link to an online public comment page. Any comments received, including names and addresses, will become part of the administrative record and will be available for public inspection.

EIS Preparation and Schedule

After consideration of comments received during the scoping period, TVA will develop and distribute a scoping document that will summarize public and agency comments that were received and identify the schedule for completing the EIS process. Following analysis of the issues, TVA will prepare the draft EIS for public review and comment, expected to be released mid-2024. TVA anticipates the final EIS in mid-2025. In finalizing the EIS and in making its final decision, TVA will consider the comments that it receives on the draft.

Rebecca Tolene,
Vice President, Environment and Sustainability.

[FR Doc. 2023-20264 Filed 9-18-23; 8:45 am]

BILLING CODE 8120-08-P